ENVIRONMENTAL PROTECTION AGENCY

40 CFR Part 52

[EPA-R04-OAR-2019-0618; FRL-10010-05-Region 4]

Air Plan Approval; TN; Removal of the Vehicle I/M Program, Middle Tennessee Area

AGENCY: Environmental Protection Agency (EPA).

ACTION: Proposed rule.

SUMMARY: The Environmental Protection Agency (EPA) is proposing to approve a State Implementation Plan (SIP) revision submitted by the State of Tennessee, through the Tennessee Department of Environment and Conservation (TDEC), through a letter dated February 26, 2020. Specifically, EPA is proposing to approve the removal of Tennessee's inspection and maintenance (I/M) program requirements for Davidson, Sumner, Rutherford, Williamson and Wilson Counties in Tennessee (also known as the Middle Tennessee Area) from the federally-approved SIP because removing the requirements is consistent with the Clean Air Act (CAA or Act) and applicable regulations.

DATES: Comments must be received on or before July 13, 2020.

ADDRESSES: Submit your comments, identified by Docket ID No. EPA-R04-OAR-2019-0618 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

FOR FURTHER INFORMATION CONTACT: Kelly Sheckler, Air Regulatory Management Section, Air Planning and Implementation Branch, Air and Radiation Division, U.S. Environmental Protection Agency, Region 4, 61 Forsyth Street SW, Atlanta, Georgia 30303-8960. The telephone number is (404) 562-9222. Ms. Sheckler can also be reached via electronic mail at sheckler.kelly@epa.gov.

SUPPLEMENTARY INFORMATION:

I. Background

Davidson County began implementing an I/M program in 1985. See Davidson County Resolution No. R83-1471. The program required all light-duty motor vehicles registered in Davidson County to be inspected annually for compliance with emissions performance and anti-tampering test criteria.

With the passage of the 1990 CAA amendments, the Middle Tennessee Area was designated as a moderate ozone nonattainment area for the 1979 1-hour ozone NAAQS. See 56 FR 56694 (November 6, 1991). Under section 182 of the CAA, I/M programs are required for areas that are designated as moderate or above nonattainment for ozone, and the existing I/M program in Davidson County was expanded to the Middle Tennessee Area. In 1994, Tennessee submitted a SIP revision containing an I/M program for the Middle Tennessee Area, which EPA approved. See 60 FR 38694 (July 28, 1995). As part of that action, EPA incorporated the State's I/M rules at Tennessee Air Pollution Control Regulations (TAPCR) 1200-03-29 and Davidson County's I/M rules at Regulation 8 into the SIP. See id. On October 30, 1996, EPA redesignated the Middle Tennessee Area to attainment for the 1-hour ozone NAAQS and approved a maintenance plan with the I/M program as a control strategy. See 61 FR 55903. The 1979 1-hour ozone NAAQS was revoked, effective June 15, 2005. See 69 FR 23951 (April 30, 2004).

On July 18, 1997 (62 FR 38856), EPA promulgated a revised 8-hour ozone standard of 0.08 parts per million (ppm). In December 2002, the Middle Tennessee Area entered into EPA's Early Action Compact (EAC) program. As part of the EAC for the Middle Tennessee Area, the I/M program was identified as an existing control strategy in the SIP. The Middle Tennessee Area met the EAC requirements by December 31, 2007, demonstrating attainment of the 1997 8-hour ozone NAAQS. As a result of meeting the EAC agreement, on April 2, 2008, EPA designated the Middle Tennessee Area as attainment for the 1997 8-hour ozone NAAQS. See 73 FR 17897. The 1997 8-hour ozone NAAQS was revoked, effective April 6, 2015. See 80 FR 12264 (March 6, 2015).

The ozone NAAQS was revised in 2008 to a value of 0.075 ppm and again in 2015 to 0.070 ppm. See 73 FR 16483 (March 27, 2008) and 80 FR 65292 (October 26, 2015). The Middle Tennessee Area was designated as unclassifiable/attainment and attainment/unclassifiable for the 2008 and 2015 ozone NAAQS, respectively. See 40 CFR 81.343. The Middle Tennessee Area is currently in attainment with all ozone NAAQS. See id.

On May 15, 2018, a Tennessee law was signed that states that “no inspection and maintenance program shall be employed in this state on or after the effective date of this act.” See Tenn. Code Ann. § 68-201-119. The Tennessee law states that it “shall take effect [120] calendar days following the date on which the [EPA] approves a revised state implementation plan. . .” See Motor Vehicles—Inspection and Inspectors—Air Pollution, 2018 Tennessee Laws Pub. Ch. 953 (H.B. 1782). Accordingly, Tennessee submitted the February 26, 2020, SIP revision requesting that EPA remove the requirements to implement an I/M program for the Middle Tennessee Area.¹ A description of the SIP revision and EPA's analysis is provided in Section II below.

¹ Tenn. Code Ann. § 68-201-119(c) allows Tennessee counties to retain local I/M programs under certain conditions. However, as Tennessee is requesting removal of the I/M program from the SIP, EPA's analysis in this proposal assumes that no I/M program will be implemented in the Middle Tennessee Area. This proposed action does not preclude local I/M programs from being retained at a local level.

II. What is EPA's analysis of Tennessee's submittal?

Through a letter dated February 26, 2020,² Tennessee requested that TAPCR 1200-03-29 and Davidson County's Regulation 8 be removed from the Tennessee SIP. In addition, Tennessee requested that EPA remove the requirement for the Middle Tennessee Area to implement an I/M program as part of the EAC that was approved by EPA into the non-regulatory portion of the Tennessee SIP on August 26, 2005. See 70 FR 50199. Tennessee also provided a non-interference demonstration to support the removal of the vehicle I/M program for the Middle Tennessee Area.

² EPA received Tennessee's SIP revision on February 27, 2020.

As discussed in Section I above, the Middle Tennessee Area implemented the I/M program requirements as a control strategy to meet the 1979 1-hour ozone NAAQS and expanded it as part of the EAC addressing the 1997 8-hour ozone NAAQS. Currently, Davidson, Sumner, Rutherford, Williams and Wilson Counties in Tennessee are designated attainment, unclassifiable/attainment, or attainment/unclassifiable for all ozone NAAQS. See 40 CFR 81.343.

EPA is proposing to approve the removal of the I/M requirements for the Middle Tennessee from the Tennessee SIP, including TAPCR 1200-03-29 and Davidson County's Regulation 8.³ EPA is also proposing to find that the removal of the I/M program requirements for the Middle Tennessee Area is consistent with CAA section 110(l). Section 110(l) of the CAA requires that a revision to the SIP not interfere with any applicable requirements concerning attainment, reasonable further progress (as defined in section 171), or any other applicable requirements of the CAA. EPA evaluates section 110(l) non-interference demonstrations on a case-by-case basis considering the circumstances of each SIP revision. EPA interprets section 110(l) as applying to all NAAQS that are in effect. For I/M SIP revisions, the most relevant pollutants to consider are ozone precursors (i.e., nitrogen oxides (NOx) and volatile organic compounds (VOCs)).

³ TAPCR 1200-03-29 is applicable only to Davidson, Hamilton, Rutherford, Sumner, Williamson, and Wilson Counties. In a separate notice of proposed rulemaking (NPRM), EPA proposed to remove Hamilton County from that chapter of the SIP-approved Tennessee rules. EPA is proposing in this NPRM to remove Davidson, Rutherford, Sumner, Williamson, and Wilson Counties from TAPCR 1200-03-29. Additionally, EPA is proposing that if it removes all applicable counties from TAPCR 1200-03-29, to also remove the remainder of TAPCR 1200-03-29 from the SIP.

As mentioned above, Tennessee's February 26, 2020, SIP revision included a non-interference demonstration to support the State's request to remove the SIP-approved I/M program requirements for the Middle Tennessee counties of Davidson, Sumner, Rutherford, Williams, and Wilson. Tennessee's non-interference demonstration evaluates the impact that the removal of the I/M program for the Middle Tennessee Area would have on Tennessee's ability to attain and maintain any of the NAAQS. Based on the analysis below, EPA is proposing to find that removal of the I/M program requirements for the Middle Tennessee Area meets the requirements of the CAA section 110(l) because it would not interfere with attainment or maintenance of any NAAQS or any other requirement of the CAA.4 5 6

⁴ The initial designations for the course particulate matter (PM10) NAAQS were completed on March 15, 1991. See 56 FR 11101. The entire state of Tennessee was designated as attainment for PM10 and has been attainment for every PM10 standard thereafter. The pollution control systems for light-duty gasoline vehicles subject to the I/M program are not designed to reduce emissions of PM10; therefore, removing the I/M program requirements will not have any impact on ambient concentrations of PM10. EPA proposes to find that removal of the SIP-approved I/M program requirements for the Middle Tennessee Area would not interfere with continued attainment or maintenance of the PM10 NAAQS.

⁵ On June 22, 2010, EPA revised the 1-hour sulfur dioxide (SO2) NAAQS to 75 parts per billion (ppb) which became effective on August 23, 2010. See 75 FR 35520. On January 9, 2018, EPA designated most of the state of Tennessee, including the counties in the Middle Tennessee Area, as attainment/unclassifiable for the 2010 SO2 NAAQS. See 83 FR 1098. EPA has designated Sullivan County, Tennessee, as nonattainment and Sumner County as unclassifiable for the 2010 1-hour SO2 NAAQS. See 78 FR 47191 (August 5, 2013), and 81 FR 45039 (July 12, 2016). The pollution control systems for light-duty gasoline vehicles subject to the I/M program are not designed to reduce emissions for SO2; therefore, removing the I/M program requirements will not have any impact on ambient concentrations of SO2. EPA proposes to find that removal of the SIP-approved I/M program requirements for the Middle Tennessee Area would not interfere with continued attainment or maintenance of the SO2 NAAQS.

⁶ On November 12, 2008, EPA promulgated a revised lead NAAQS of 0.15 µg/m³. See 73 FR 66964. On November 22, 2011, EPA designated a majority of the State of Tennessee, including the counties in the Middle Tennesse Area as unclassifiable/attainment for the 2008 lead NAAQS. The Bristol Area in Sullivan County was designated nonattainment; and the Knox County Area was later designated unclassifiable. See 76 FR 72907; see also 75 FR 71033 (November 22, 2011). Subsequently, the Bristol Area was redesignated to attainment. See 81 FR 44210 (July 7, 2016). Effective January 1, 1996, EPA banned the sale of leaded fuel for use in on-road vehicles. The pollution control systems for light-duty gasoline vehicles subject to the I/M program are not designed to reduce emissions for lead; therefore, removal of the I/M program requirements would not cause an increase in emissions of lead. EPA proposes to find that removal of the SIP-approved I/M program requirements for the Middle Tennesse Area would not interfere with continued attainment or maintenance of the lead NAAQS.

Non-Interference Analysis for the Ozone NAAQS

On February 8, 1979 (44 FR 8202), EPA promulgated the 1-hour ozone NAAQS of 0.12 parts per million (ppm).⁷ On July 18, 1997 (62 FR 38856), EPA promulgated a revised 8-hour ozone standard of 0.08 ppm.⁸ Subsequently, on March 12, 2008, EPA revised both the primary and secondary NAAQS for ozone to a level of 0.075 ppm to provide increased protection of public health and the environment. See 73 FR 16436 (March 27, 2008). The 2008 ozone NAAQS retain the same general form and averaging time as the 0.08 ppm NAAQS set in 1997 but are set at a more protective level. Under EPA's regulations at 40 CFR part 50, the 2008 8-hour ozone NAAQS are attained when the 3-year average of the annual fourth highest daily maximum 8-hour average ambient air quality ozone concentrations is less than or equal to 0.075 ppm. See 40 CFR 50.15. On October 26, 2015 (80 FR 65292), EPA published a final rule lowering the level of the 8-hour ozone NAAQS to 0.070 ppm or 70 ppb and retaining the same form.

⁷ The 1979 1-hour ozone NAAQS was revoked, effective June 15, 2005. See 69 FR 23951 (April 30, 2004).

⁸ The 1997 8-hour ozone NAAQS was revoked, effective April 6, 2015. See 80 FR 12264 (March 6, 2015).

The Middle Tennessee Area is designated as attainment or unclassifiable/attainment for all ozone NAAQS.⁹ See 40 CFR 81.343. Ambient air quality monitoring for ozone is being conducted at five locations in the Middle Tennessee Area. In the February 26, 2020, SIP revision, the State provides recent 8-hour ozone design values in ppb (see Table 1). The values in Table 1 below indicate attainment of the 2015 8-hour NAAQS of 70 ppb.

⁹ Visit https://gispub.epa.gov/air/trendsreport/2019/#home or https://www.epa.gov/outdoor-air-quality-data for air quality data including current status and trends for all NAAQS.

Table 1—Middle Tennesse Area Monitor Design Values
Site name | Ozone design value, ppb: 2013-2015 | Ozone design value, ppb: 2014-2016 | Ozone design value, ppb: 2015-2017 | Ozone design value, ppb: 2016-2018 | Ozone design value, ppb: 2017-2019
Trinity Lane, Davidson County | 62 | 66 | 66 | 66 | 65
Percy Priest, Davidson County | 65 | 67 | 64 | 67 | 65
Rockland Recreation Area, Sumner County | 67 | 67 | 66 | 66 | 66
Fairview Middle School, Williamson County | 62 | 61 | 60 | 60 | 60
Cedars of Lebanon State Park, Wilson County | 62 | 64 | 63 | * 64 | * 61
* Not a valid design value because the monitor did not meet data completeness requirements in 2018. There was an issue following the installation of the new monitoring shelter and TDEC invalidated data leading up to the correction of the issue.

Tennessee's non-interference analysis includes modeling to calculate ozone precursor emissions, as well as a sensitivity analysis to demonstrate the impact of emissions increases on monitored ozone values. Tennessee's non-interference demonstration utilized EPA's MOVES2014 emission modeling system to estimate ozone precursor emissions for mobile sources—both on-road and non-road. Tennessee chose 2022 as the future year for the State's non-interference demonstration because it is the year that it anticipates that the Middle Tennessee Area will cease implementation of the I/M program due to the CAA's SIP processing timeframe and the language of Tenn. Code Ann. § 68-201-119. The point source emissions for the Middle Tennessee Area were obtained from the 2014 version 2 National Emissions Inventory (NEI) and grown to the year 2022 using the appropriate EPA growth factors or using engineering judgment, as detailed in Appendices H and I of the February 26, 2020, SIP revision. For non-point sources, the inventory was developed using EPA established methodologies published by EPA,¹⁰ as detailed in Appendix J of the February 26, 2020, SIP revision. Tennessee calculated projected emissions in the year 2022 by adding all four sectors (on-road, point, non-road, and non-point) together.

¹⁰ See 2017 NEI Final Plan: Revised July 2018, available at https://www.epa.gov/sites/production/files/2018-07/documents/2017_nei_plan_final_revised_jul2018.pdf.

Table 2 shows the total projected emissions in 2022 with the I/M program in the Middle Tennessee Area. Table 3 shows the total projected emissions in 2022 without the I/M program in the Middle Tennessee Area.¹¹ By 2022, emission benefits resulting from Tennessee's I/M program for the Middle Tennessee Area are predicted to be a 478.52 ton per year (tpy) reduction of NOX, and a 593.10 tpy reduction of VOCs. On a percentage basis, removal of the I/M program will result in a 4.2 percent increase in NOX emissions and a 12.4 percent increase in VOCs. The differences in the two scenarios for all four sectors combined is a 1.9 percent increase in NOX and a 1.7 percent increase in VOC emissions.

¹¹ Since the I/M program only impacts emissions in the on-road sector, the projected emissions in other sectors (point, non-road and non-point) are the same between the “with the I/M program” and the “without the I/M program” scenarios.

Table 2—Middle Tennessee Area Total 2022 Projected Emissions of NOX and VOC (in tpy) With the I/M Program
Sector | NOX | VOC
On road | 11,309 | 4,780
Point | 4,455 | 3,867
Nonroad | 5,413 | 3,451
Non-Point | 3,504 | 22,690
Total | 24,681 | 34,788

Table 3—Middle Tennessee Area Total 2022 Projected Emissions of NOX and VOC (in tpy) Without the I/M Program
Sector | NOX tpy | VOC tpy
On road | 11,788 | 5,373
Point | 4,455 | 3,867
Nonroad | 5,413 | 3,451
Non-Point | 3,504 | 22,690
Total | 25,160 | 35,382

Table 4—Summary of NOX and VOC Emissions Increases Associated With Removing the Middle Tennessee Area From the I/M Program
| NOX emissions in 2022 | VOC emissions in 2022
Total On-Road Emissions for Middle TN Counties in Current I/M Program (tpy) | 11,309 | 4,780
Total On-Road Emissions after Removing Middle TN Counties from I/M Program (tpy) | 11,788 | 5,373
Total Emissions for Middle TN Counties in Current I/M Program (all sectors) (tpy) | 24,681 | 34,788
Total Emissions after Removing Middle TN Counties from I/M Program (all sectors) (tpy) | 25,160 | 35,382
Emissions Increases (tpy) | 479 | 593
Emissions Increases (% of Total On-Road Emissions for Middle TN Counties) | 4.2% | 12.4%
Emissions Increases (% of Total Emissions for Middle TN Counties, all sectors) | 1.9% | 1.7%

To further quantify the potential impact of removal of the I/M program, Tennessee completed a photochemical modeling sensitivity analysis. As shown in Table 5, the sensitivity analysis indicates that the largest increase in ozone concentration would be at the Percy Priest monitor at 0.262 ppb.

Table 5—Results of Sensitivity Analysis, Increases of Ozone Concentrations at Monitors in the Middle Tennessee Area
Site name | 2016-2018 ozone design value | Sensitivity analysis corresponding ozone increase due to combined NOX and VOC increases
Trinity Lane, Davidson County | 66 | 0.249
Percy Priest, Davidson County | 67 | 0.262
Rockland Recreation Area, Sumner County | 66 | 0.196
Fairview Middle School, Williamson County | 60 | 0.186
Cedars of Lebanon State Park, Wilson County | 64 | 0.178

EPA has evaluated the State's analysis and preliminarily agrees with its findings and conclusions. EPA therefore proposes to find that removal of the SIP-approved I/M program requirements for the Middle Tennessee Area would not interfere with any applicable requirement concerning attainment or maintenance of the ozone NAAQS.

Non-Interference Analysis for the Fine Particulate Matter (PM2.5) NAAQS

On July 16, 1997, EPA established an annual PM2.5 NAAQS of 15.0 micrograms per cubic meter (μg/m³), based on a 3-year average of annual mean PM2.5 concentrations, and a 24-hour PM2.5 NAAQS of 65 μg/m³, based on a 3-year average of the 98th percentile of 24-hour concentrations.¹² See 62 FR 38652 (July 18, 1997). On September 21, 2006, EPA retained the 1997 annual PM2.5 NAAQS of 15.0 μg/m³ but revised the 24-hour PM2.5 NAAQS to 35 μg/m³, based again on a 3-year average of the 98th percentile of 24-hour concentrations. See 71 FR 61144 (October 17, 2006). On December 14, 2012, EPA retained the 2006 24-hour PM2.5 NAAQS of 35 μg/m³ but revised the annual primary PM2.5 NAAQS to 12.0 μg/m³, based again on a 3-year average of annual mean PM2.5 concentrations. See 78 FR 3086 (January 15, 2013).

¹² The 1997 annual PM2.5 NAAQS was revoked for areas designated as attainment, effective October 24, 2016. See 81 FR 58010 (August 24, 2016).

EPA published designations for the 1997 annual PM2.5 NAAQS on January 5, 2005 (70 FR 944) and April 14, 2005 (70 FR 19844), designating all counties in the Middle Tennessee Area attainment for the 1997 annual PM2.5 NAAQS. On November 13, 2009 (74 FR 58688), and on January 15, 2015 (80 FR 2206), EPA published notices determining that the counties in the Middle Tennessee Area were designated unclassifiable/attainment for the 2006 24-hour PM2.5 NAAQS and the 2012 annual PM2.5 NAAQS, respectively.

In Tennessee's February 26, 2020, SIP revision, the State concluded that the removal of the counties in the Middle Tennessee Area from the Tennessee's SIP-approved I/M program would not interfere with attainment or maintenance of the PM2.5 NAAQS. The pollution control systems for light-duty gasoline vehicles subject to the I/M program are not designed to reduce emissions of direct PM2.5 and sulfate (i.e., the primary precursor for PM2.5 formation in the Southeast); therefore, removing counties from the program will not have any impact on ambient concentrations of PM2.5 NAAQS. In addition, ambient air monitoring shows that PM2.5 24-hour design value for Middle Tennessee in 2019 is 18 μg/m³, which is below the 24-hour NAAQS of 35 μg/m³. Also, the annual design value in 2019 is 9.3 μg/m³, which is below the annual NAAQS of 12.0 μg/m³. The small increase in NOX emissions of 1.9 percent is expected to only cause a small increase in PM2.5 design value.

EPA has evaluated the State's analysis and preliminarily agrees with its findings and conclusions. EPA therefore proposes to find that removal of the SIP-approved I/M program requirements for the Middle Tennessee Area would not interfere with continued attainment or maintenance of the PM2.5 NAAQS.

Non-Interference Analysis for the 2010 Nitrogen Dioxide (NO2) NAAQS ¹³

¹³ The annual standard of 53 ppb is based on the annual mean concentration. See 36 FR 8186 (April 30, 1971).

The 2010 NO2 1-hour standard is set at 100 ppb, based on the 3-year average of the 98th percentile of the yearly distribution of 1-hour daily maximum concentrations. See 75 FR 6474 (February 9, 2010). On February 17, 2012, EPA designated all counties in Tennessee as unclassifiable/attainment for the 2010 NO2 NAAQS. See 77 FR 9532.

Based on the technical analysis in Tennessee's February 26, 2020, SIP revision, the projected increase in total NOX emissions (of which NO2 is a component) in 2022 is 1.9 percent.¹⁴ This increase is not expected to interfere with continued attainment of the NO2 NAAQS in the Middle Tennessee Area. The 2019 design value for the 1-hour NO2 NAAQS for the Middle Tennessee Area is 50 ppb.

EPA has evaluated the State's analysis and preliminarily agrees with its findings and conclusions. For these reasons, EPA proposes to find that removal of the SIP-approved I/M program requirements for the Middle Tennessee Area would not interfere with continued attainment or maintenance of the NO2 NAAQS.

Non-Interference Analysis for the Carbon Monoxide (CO) NAAQS

EPA promulgated the CO NAAQS in 1971 and has retained the standards since its last review of the standards in 2011. The primary NAAQS for CO consist of: (1) An 8-hour standard of 9 ppm, not to be exceeded more than once in a year (i.e., the second highest, non-overlapping 8-hour average concentration cannot exceed the standard); and (2) a 1-hour average of 35 ppm, not to be exceeded more than once in a year. The Middle Tennessee Area has always been designated as unclassifiable/attainment for the CO NAAQS.

In Tennessee's February 26, 2020, SIP revision, the State concluded that the removal of counties in the Middle Tennessee Area from the SIP-approved I/M program would not interfere with attainment or maintenance of the CO NAAQS. MOVES2014 mobile emissions modeling results show an increase in CO emissions of 6.1 percent in the Middle Tennessee Area in 2022 as a result of removing the I/M program for the Middle Tennessee Area. This increase is not expected to interfere with continued attainment of the CO NAAQS in the Middle Tennessee Area. The 2018 design values for Tennessee for the 1-hour and 8-hour CO NAAQS are 1.8 ppm and 1.6 ppm, respectively. Preliminary design values for Tennessee for the 1-hour and 8-hour CO NAAQS in 2019 were 1.6 ppm and 1.8 ppm, respectively, which are less than 20 percent of the CO NAAQS for both the 1-hour and 8-hour standards.

EPA has evaluated the State's analysis and preliminarily agrees with its findings and conclusions. For these reasons, EPA proposes to find that removal of the SIP-approved I/M program requirements for the Middle Tennessee Area would not interfere with continued attainment or maintenance of the CO NAAQS.

III. Proposed Action

EPA is proposing to approve the removal of the I/M requirements for the Middle Tennessee Area (i.e., Davidson, Sumner, Rutherford, Williamson and Wilson Counties) from the Tennessee SIP. EPA is proposing to approve the removal of the I/M program requirements for the Middle Tennessee Area from the federally-approved SIP because removing the requirements is consistent with the CAA and applicable regulations.

IV. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided they meet the criteria of the CAA. This proposed action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: May 29, 2020.
Mary Walker,
Regional Administrator, Region 4.

[FR Doc. 2020-12536 Filed 6-10-20; 8:45 am]

BILLING CODE 6560-50-P